DEPARTMENT OF ENERGY

Federal Energy Regulatory Commission

[Project No. 14537-001]

Antrim Treatment Trust; Notice of Application Accepted for Filing With the Commission, Intent To Waive Scoping, Soliciting Motions To Intervene and Protests, Ready for Environmental Analysis, and Soliciting Comments, Terms and Conditions, Recommendations, and Prescriptions, and Establishing an Expedited Schedule for Processing

Take notice that the following hydroelectric application has been filed with the Commission and is available for public inspection.

a. Type of Application: Original Minor License.

b. Project No.: 14537-001.

c. Date filed: December 12, 2013.

d. Applicant: Antrim Treatment Trust.

e. Name of Project: Antrim Micro-Hydropower Project.

f. Location: The project would utilize diverted water from an existing pond that collects acidic mine discharge from abandoned mines located in Duncan Township, Tioga County, Pennsylvania. The project would be located on lands owned by the applicant and would not occupy any federal lands.

g. Filed Pursuant to: Federal Power Act, 16 U.S.C. 791 (a)-825(r).

h. Applicant Contact: Margaret H. Dunn, Biomost, Inc., 434 Spring Street Ext., Mars, PA 16046. Phone: (724) 776-0161.

i. FERC Contact: Monir Chowdhury, (202) 502-6736 or monir.chowdhury@ferc.gov.

j. Deadline for filing motions to intervene and protests, comments, terms and conditions, recommendations, and prescriptions: 60 days from the issuance date of this notice; reply comments are due 105 days from the issuance date of this notice.

The Commission strongly encourages electronic filing. Please file motions to intervene and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14537-001.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The Antrim Micro-Hydropower Project would consist of the following existing features: (1) A 0.25-acre-foot collection pond; (2) a 12-inch-diameter, 435-foot-long polyvinyl chloride (PVC) pipe that conveys raw water from a collection pond to a 60-foot-diameter concrete clarifier with a capacity of 33,500 cubic feet in a treatment plant,¹ (3) a 12-inch-diameter, 143-foot-long high-density polyethylene (HDPE) pipe to convey treated water from the treatment plant to a forebay; (4) a 12-inch-diameter, 155-foot-long HDPE pipe connected to the 12-inch-diameter PVC pipe to bypass raw water to the forebay during high flow conditions or plant maintenance; (5) a forebay with a net storage capacity of 6,000 cubic feet; (6) an 18-inch-diameter, 972-foot-long penstock from the forebay to the powerhouse; (7) a powerhouse with two identical impulse turbine-generator units with a combined rated capacity of 40 kilowatts; (8) a 75-foot-long tailrace to convey flows from the powerhouse to an unnamed tributary to Bridge Run; (9) a 1,300-foot-long, 460-volt buried transmission line; and (10) appurtenant facilities. The project is estimated to generate an average of 250 megawatt-hours annually.

¹ There are various other facilities in the treatment plant, but they are not necessary for the hydropower purposes.

The applicant currently operates one turbine as an off-grid project, and proposes to bring the other turbine (currently in place but non-operational) online by additional indoor wiring within the existing powerhouse and the treatment plant, and operate both turbines as a grid-connected project.

m. Due to the project works already existing and the limited scope of new work described above, the applicant's close coordination with federal and state agencies during the preparation of the application, and agency comments, we intend to waive scoping and expedite the licensing process. Based on a review of the application, resource agency consultation letters, and agency comments, Commission staff intends to prepare a single environmental assessment (EA). Commission staff determined that the issues that need to be addressed in its EA have been adequately identified during the pre-filing period, and no new issues are likely to be identified through additional scoping. The EA will consider assessing the potential effects of project construction and operation on geology and soils, aquatic, terrestrial, threatened and endangered species, and cultural and historic resources.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. A license applicant must file no later than 60 days following the date of issuance of this notice: (1) A copy of the water quality certification; (2) a copy of the request for certification, including proof of the date on which the certifying agency received the request; or (3) evidence of waiver of water quality certification.

q. Procedural schedule: The application will be processed according to the following procedural schedule. Revisions to the schedule may be made as appropriate.

MILESTONE: Notice of the availability of the EA.

TARGET DATE: August 2014.

Dated: February 20, 2014.
Kimberly D. Bose,
Secretary.

[FR Doc. 2014-04276 Filed 2-26-14; 8:45 am]

BILLING CODE 6717-01-P